ENVIRONMENTAL PROTECTION AGENCY

[OPP-2003-0340; FRL-7331-6]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request on the Federal Register.

DATES: The deletions are effective on May 3, 2004, or December 5, 2003 for product registrations 000769-00730, 000829-00285, 005905-00496, 005905-00502, 005905-00510, 007401-00115, 007401-00206, 007401-00273, 035138-00079, 073049-00087, and 073049-00095, unless the Agency receives a written withdrawal request on or before applicable dates given above.

Users of these products who desire continued use on crops or sites being deleted should contact the applicable registrant on or before applicable dates given above.

ADDRESSES: Written withdrawal requests may be submitted electronically, by mail, or through hand delivery/courier. Follow the detailed instructions as provided in Unit I. of the SUPPLEMENTARY INFORMATION. To ensure proper receipt by EPA, it is imperative that you identify docket ID number OPP-2003-0340 in the subject line on the first page of your response.

FOR FURTHER INFORMATION CONTACT: James A. Hollins, Office of Pesticide Programs (7502C), Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established an official public docket for this action under docket identification (ID) number OPP-2003-0340. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and To Whom Do I Submit Written Withdrawal Requests?

1. Electronically—i. E-mail. E-mail your written withdrawal requests to: James A. Hollins at hollins.james@epa.gov, Attention: Docket ID Number OPP-2003-0340.

ii. Disk or CD-ROM. Written withdrawal requests on disk or CD-ROM may be mailed to the address in Unit I.C.2. or delivered by hand or courier to the address in Unit I.C.3., Attention: Docket ID Number OPP-2003-0340. These electronic submissions will be accepted in WordPerfect or ASCII file format. Avoid the use of special characters and any form of encryption.

2. By mail. Send your written withdrawal requests to: James A. Hollins, Office of Pesticide Programs (7502C), Environmental Protection Agency, 1200 Pennsylvania Ave., NW., Washington, DC 20460-0001, Attention: Docket ID Number OPP-2003-0340.

3. By hand delivery or courier. Deliver your written withdrawal requests to: Public Information and Records Integrity Branch (PIRIB), Office of Pesticide Programs (OPP), Environmental Protection Agency, Rm. 119, Crystal Mall #2, 1921 Jefferson Davis Hwy., Arlington, VA, Attention: Docket ID Number OPP-2003-0340. Such deliveries are only accepted during the docket's normal hours of operation as identified in Unit I.B.1.

II. What Action is the Agency Taking?

This notice announces receipt by the Agency of applications from registrants to delete uses in certain pesticide registrations. These registrations are listed in Table 1 of this unit by registration number, product name/active ingredient, and specific uses deleted:

Table 1.—Registrations With Requests for Amendments to Delete Uses in Certain Pesticide Registrations
Registration No. | Product Name | Active Ingredient | Delete From Label
000100-00834 | Barricade 65WG Herbicide | Prodiamine | Plants grown for cut foliage production
000100-00834 | Barricade 65WG Herbicide | Prodiamine | Plants grown for cut foliage production
000228-00068 | Riverdale Malathion 5 | Malathion | Use in empty grain storage areas
000228-00068 | Riverdale Malathion 5 | Malathion | Use in empty grain storage areas
000228-00244 | Riverdale 50% Malathion E.C. | Malathion | Hog and calf pens; poultry houses; horse and sheep barns; corrals; water troughs; manure piles
000228-00244 | Riverdale 50% Malathion E.C. | Malathion | Hog and calf pens, poultry houses; horse and sheep barns; corrals; water troughs; manure piles
000264-00324 | SEVIN Brand 99% Technical Carbaryl Insecticide | Carbaryl | Turf/lawn broadcast use with the liquid formulations
000264-00325 | SEVIN Brand 97.5% Manufacturing Concentrate | Carbaryl | Turf/lawn broadcast use with the liquid formulations
000264-00328 | SEVIN Brand 80% Dust Base Carbaryl Insecticide | Carbaryl | Turf/lawn broadcast use with the liquid formulations
000769-00730 | SEVIN 5% Bait | Carbaryl | Alfalfa, apples, cherries, plums, apricots, citrus fruits, grapes, peaches, pears, peanuts, and tobacco
000829-00285 | SA-50 Cutworm and Cricket Bait | Carbaryl | Sugar beets, collards, horseradish, parsley, rutabagas, swiss chard
001022-00562 | Chap-Fume | Metam-Sodium | Wood chip use
005905-00496 | 1.5LB Benfluralin EC | Benfluralin | Peanuts and tobacco
005905-00502 | Weed Rhap A4-MCPA | MCPA, diethylamine salt | Rice
005905-00510 | MCPA Sodium Salt | MCPA, diethylamine salt | Rice, peas, flax and grain sorghum
007401-00115 | Hi-Yield 8 Lb. Malathion Emulsifiable Concentrate | Malathion | Peanuts, soybeans, and sugar beets
007401-00206 | Hi-Yield Low Volume Malathion Concentrate | Malathion | Safflower, soybeans, sugar beets, and tomatoes
007401-00273 | Hi-Yield Grain Storage Spray | Malathion | Stored peanuts, peanuts going into storage, peanut storage facilities, stored grain, storage facilities, and transportation equipment for grain sorghum, rice, field and garden seeds
019713-00089 | Drexel Carbaryl 2L | Carbaryl | Poultry uses
035138-00079 | Aero Flying Insect Spray Concentrate | Piperonyl butoxide; Pyrethrins | Livestock uses
045385-00009 | Insect Spray | Piperonyl butoxide | Food handling establishments
073049-00087 | SBP-1382 Bioallethrin Insecticide Concentrate | Resmethrin; Bioallethrin | Food handling establishments and formulations for treating stored grain
073049-00095 | SBP-1382/Bioallethrin Insecticide Concentrate 10-6.25% | Resmethrin; Bioallethrin | Food handling establishments

Users of these products who desire continued use on crops or sites being deleted should contact the applicable registrant before applicable dates indicated in the DATES section of this notice to discuss withdrawal of the application for amendment. This 30-or 180-day period will also permit interested members of the public to intercede with registrants prior to the Agency's approval of the deletion.

Table 2 of this unit includes the names and addresses of record for all registrants of the products in Table 1 of this unit, in sequence by EPA company number.

Table 2—Registrants Requesting Amendments to Delete Uses in Certain Pesticide Registrations
EPA Company No. | Company Name and Address
000100 | Syngenta Crop Protection, Inc., Box 18300, Greensboro, NC 27419
000228 | Nufarm Americas Inc., D/B/A Riverdale - A Nufarm Co., 1333 Burr Ridge Parkway, Suite 125a, Burr Ridge, IL 60527
000264 | Bayer Cropscience LP, 2 T.W. Alexander Drive, Research Triangle Park, NC 27709
000769 | Value Gardens Supply, LLC, Box 585, St. Joseph, MO 64502
000829 | Southern Agricultural Insecticides, Inc., Box 218, Palmetto, FL 34220
001022 | IBC Mfg. Co, c/o Gail Early, 416 E. Brooks Rd., Memphis, TN 38109
005905 | Helena Chemical Co, 225 Schilling Blvd., Suite 300, Collierville, TN 38017
007401 | Brazos Associates, Inc., Agent For: Voluntary Purchasing Group In, 1806 Auburn Drive, Carrollton, TX 75007
019713 | Drexel Chemical Co, 1700 Channel Ave.Box 13327, Memphis, TN 38113
035138 | Aerochem, Inc., 1396 Lee Lane, Raymond, MS 39154
045385 | CTX-Cenol, Inc., Box 472, Twinsburg, OH 44087
073049 | Valent Biosciences Corp., 870 Technology Way, Libertyville, IL 60048

III. What is the Agency Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to James A. Hollins using the instructions in Unit I.C. The Agency will consider written withdrawal requests postmarked on or before applicable dates indicated in the DATES section of this notice.

V. Provisions for Disposition of Existing Stocks

The Agency has authorized the registrants to sell or distribute product under the previously approved labeling for a period of 18 months after approval of the revision, unless other restrictions have been imposed, as in special review actions.

List of Subjects

Environmental protection, Pesticides and pests.

Dated: October 21, 2003.
Arnold E. Layne,
Director, Information Resources and Services Division, Office of Pesticide Programs.

[FR Doc. 03-27678 Filed 11-4-03; 8:45 am]

BILLING CODE 6560-50-S